DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Lee (FEMA Docket No.: B-1935). | City of Opelika (18-04-5478P). | The Honorable Gary Fuller, Mayor, City of Opelika, 204 South 7th Street, Opelika, AL 36803. | Engineering Department, 700 Fox Trail, Opelika, AL 36803. | Aug. 7, 2019 | 010145
Lee (FEMA Docket No.: B-1935). | Unincorporated areas of Lee County (18-04-5478P). | The Honorable Bill English, Chairman, Lee County Board of Commissioners, P.O. Box 666, Opelika, AL 36803. | Lee County Building Department, 100 Orr Avenue, Opelika, AL 36801. | Aug. 7, 2019 | 010250
Colorado:
Douglas (FEMA Docket No.: B-1931). | Town of Castle Rock (18-08-0874P). | The Honorable Jason Gray, Mayor, Town of Castle Rock, 100 North Wilcox Street, Castle Rock, CO 80104. | Water Department, 175 Kellogg Court, Castle Rock, CO 80109. | Aug. 9, 2019 | 080050
Douglas (FEMA Docket No.: B-1924). | Town of Castle Rock (18-08-0968P). | The Honorable Jason Gray, Mayor, Town of Castle Rock, 100 North Wilcox Street, Castle Rock, CO 80104. | Water Department, 175 Kellogg Court, Castle Rock, CO 80109. | Jul. 26, 2019 | 080050
Douglas (FEMA Docket No.: B-1931). | Unincorporated areas of Douglas County (18-08-0874P). | The Honorable Lora Thomas, Chair, Douglas County, Board of County Commissioners, 100 3rd Street, Castle Rock, CO 80104. | Public Works Division, 100 3rd Street, Castle Rock, CO 80104. | Aug. 9, 2019 | 080049
Routt (FEMA Docket No.: B-1935). | City of Steamboat Springs (18-08-0922P). | Mr. Gary Suiter, Manager, City of Steamboat Springs, P.O. Box 775088, Steamboat Springs, CO 80477. | Planning and Community Development Department, 124 10th Street, Steamboat Springs, CO 80477. | Jul. 29, 2019 | 080159
Connecticut:
Hartford (FEMA Docket No.: B-1931). | Town of Avon (18-01-2151P). | Mr. Brandon Robertson, Manager, Town of Avon, 60 West Main Street, Avon, CT 06001. | Town Hall, 60 West Main Street, Avon, CT 06001. | Aug. 12, 2019 | 090021
New Haven (FEMA Docket No.: B-1931). | Town of Cheshire (19-01-0468P). | The Honorable Rob Oris, Jr., Chairman, Town of Cheshire Council, 84 South Main Street, Cheshire, CT 06410. | Town Hall, 84 South Main Street, Cheshire, CT 06410. | Aug. 9, 2019 | 090074
New Haven (FEMA Docket No.: B-1935). | Town of Guilford (18-01-1576P). | The Honorable Matthew T. Hoey, III, First Selectman, Town of Guilford, Board of Selectmen, 31 Park Street, Guilford, CT 06437. | Building and Engineering Department, 50 Boston Street, Guilford, CT 06437. | Aug. 2, 2019 | 090077
Florida:
Duval (FEMA Docket No.: B-1928). | City of Jacksonville (18-04-7273P). | The Honorable Lenny Curry, Mayor, City of Jacksonville, 117 West Duval Street, Suite 400, Jacksonville, FL 32002. | Development Services Department, 214 North Hogan Street, Suite 2100, Jacksonville, FL 32002. | Aug. 2, 2019 | 120077
Duval (FEMA Docket No.: B-1928). | City of Neptune Beach (18-04-7273P). | Mr. Andrew E. Hyatt, Manager, City of Neptune Beach, 116 1st Street, Neptune Beach, FL 32266. | Planning and Community Development Department, 116 1st Street, Neptune Beach, FL 32266. | Aug. 2, 2019 | 120079
Leon (FEMA Docket No.: B-1928). | City of Tallahassee (18-04-2534P). | The Honorable Andrew Gillum, Mayor, City of Tallahassee, 300 South Adams Street, Tallahassee, FL 32301. | City Hall, 300 South Adams Street, Tallahassee, FL 32301. | Aug. 5, 2019 | 120144
Manatee (FEMA Docket No.: B-1931). | Unincorporated areas of Manatee County (18-04-5230P). | The Honorable Priscilla Trace, Chair, Manatee County Board of Commissioners, 1112 Manatee Avenue West, Bradenton, FL 34205. | Manatee County Building and Development Services Department, 1112 Manatee Avenue West, Bradenton, FL 34205. | Jul. 31, 2019 | 120153
Monroe (FEMA Docket No.: B-1931). | City of Key West (19-04-0709P). | The Honorable Teri Johnston, Mayor, City of Key West, P.O. Box 1409, Key West, FL 33041. | City Hall, 1300 White Street, Key West, FL 33041. | Aug. 2, 2019 | 120168
Monroe (FEMA Docket No.: B-1931). | Unincorporated areas of Monroe County (19-04-1672P). | The Honorable Sylvia Murphy, Mayor, Monroe County Board of Commissioners, 102050 Overseas Highway, Suite 234, Key Largo, FL 33037. | Monroe County Building Department, 2798 Overseas Highway, Suite 300, Marathon, FL 33050. | Aug. 12, 2019 | 125129
Sarasota (FEMA Docket No.: B-1924). | City of Sarasota (19-04-2012P). | The Honorable Liz Alpert, Mayor, City of Sarasota, 1565 1st Street, Room 101, Sarasota, FL 34236. | Development Services Department, 1565 1st Street, Sarasota, FL 34236. | Jul. 25, 2019 | 125150
Sarasota (FEMA Docket No.: B-1924). | Unincorporated areas of Sarasota County (19-04-1456P). | The Honorable Charles D. Hines, Chairman, Sarasota County Board of Commissioners, 1660 Ringling Boulevard, Sarasota, FL 34236. | Sarasota County Planning and Development Services Department, 1001 Sarasota Center Boulevard, Sarasota, FL 34240. | Jul. 26, 2019 | 125144
Mississippi: Madison (FEMA Docket No.: B-1928). | City of Canton (19-04-0575P). | The Honorable William Truly, Jr., Mayor, City of Canton, P.O. Box 1605, Canton, MS 39046. | Building and Development Department, 226 East Peace Street, Canton, MS 39046. | Aug. 2, 2019 | 280109
Nevada: Clark (FEMA Docket No.: B-1928). | City of North Las Vegas (18-09-1807P). | Mr. Ryann Juden, Manager, City of North Las Vegas, 2250 Las Vegas Boulevard North, Suite 900, North Las Vegas, NV 89030. | Public Works Department, 2200 Civic Center Drive, North Las Vegas, NV 89030. | Jul. 30, 2019 | 320007
New Hampshire: Grafton (FEMA Docket No.: B-1924). | Town of Hebron (18-01-1456P). | Mr. Patrick Moriarty, Chairman, Town of Hebron Select Board, P.O. Box 188, Hebron, NH 03241. | Public Safety Department, 37 Groton Road, Hebron, NH 03241. | Jul. 24, 2019 | 330058
North Carolina:
Durham (FEMA Docket No.: B-1948). | City of Durham (18-04-5509P). | The Honorable Steve Schewel, Mayor, City of Durham, 101 City Hall Plaza, Durham, NC 27701. | The City of Durham Public Works Department, 101 City Hall Plaza, Ste. 3100, Durham, NC 27701. | Sep. 12, 2019 | 370086
Durham (FEMA Docket No.: B-1948). | Town of Apex (18-04-7120P). | The Honorable Lance Olive, Mayor, Town of Apex, P.O. Box 250, Apex, NC 27502. | Planning Department, Apex Town Hall, 73 Hunter Street, 2nd Floor, Apex, NC 27502. | Sep. 16, 2019 | 370467
Pennsylvania: Indiana (FEMA Docket No.: B-1924). | Township of White (18-03-1378P). | Mr. Milton Lady, Manager, Township of White, 950 Indian Springs Road, Indiana, PA 15701. | Township Hall, 950 Indian Springs Road, Indiana, PA 15701. | Jul. 24, 2019 | 421725
South Carolina:
Berkeley (FEMA Docket No.: B-1924). | Unincorporated areas of Berkeley County (18-04-3968P). | The Honorable Johnny Cribb, Supervisor, Berkeley County Council, P.O. Box 6122, Moncks Corner, SC 29461. | Berkeley County Planning and Zoning Department, 1003 Highway 52, Moncks Corner, SC 29461. | Jul. 25, 2019 | 450029
Dorchester (FEMA Docket No.: B-1924). | Town of Summerville (18-04-3968P). | The Honorable Wiley Johnson, Mayor, Town of Summerville, 200 South Main Street, Summerville, SC 29483. | Public Works, Engineering Department, 200 South Main Street, Summerville, SC 29483. | Jul. 25, 2019 | 450073
Texas:
Atascosa (FEMA Docket No.: B-1935). | City of Pleasanton (19-06-0007P). | The Honorable Travis Hall, Jr., Mayor, City of Pleasanton, P.O. Box 209, Pleasanton, TX 78064. | Public Works Department, 740 East Hunt Street, Pleasanton, TX 78064. | Aug. 8, 2019 | 480015
Bexar (FEMA Docket No.: B-1939). | City of Leon Valley (18-06-3403P). | The Honorable Chris Riley, Mayor, City of Leon Valley, 6400 El Verde Road, Leon Valley, TX 78238. | Community Development Department, 6400 El Verde Road, Leon Valley, TX 78238. | Aug. 5, 2019 | 480042
Bexar (FEMA Docket No.: B-1935). | City of San Antonio (18-06-0785P). | The Honorable Ron Nirenberg, Mayor, City of San Antonio, P.O. Box 839966, San Antonio, TX 78283. | Transportation and Capitol Improvements Department, Storm Water Division, 1901 South Alamo Street, 2nd Floor, San Antonio, TX 78204. | Jul. 29, 2019 | 480045
Bexar (FEMA Docket No.: B-1939). | City of San Antonio, (18-06-3403P). | The Honorable Ron Nirenberg, Mayor, City of San Antonio, P.O. Box 839966, San Antonio, TX 78283. | Transportation and Capitol Improvements Department, Storm Water Division, 1901 South Alamo Street, 2nd Floor, San Antonio, TX 78204. | Aug. 5, 2019 | 480045
Bexar (FEMA Docket No.: B-1939). | City of San Antonio (19-06-0142P). | The Honorable Ron Nirenberg, Mayor, City of San Antonio, P.O. Box 839966, San Antonio, TX 78283. | Transportation and Capitol Improvements Department, Storm Water Division, 1901 South Alamo Street, 2nd Floor, San Antonio, TX 78204. | Aug. 5, 2019 | 480045
Collin and Denton (FEMA Docket No.: B-1939). | City of Celina (18-06-1942P). | The Honorable Sean Terry, Mayor, City of Celina, 142 North Ohio Street, Celina, TX 75009. | Engineering Services Department, 142 North Ohio Street, Celina, TX 75009. | Aug. 5, 2019 | 480133
Comal (FEMA Docket No.: B-1935). | City of New Braunfels (18-06-1899P). | The Honorable Barron Casteel, Mayor, City of New Braunfels, 550 Landa Street, New Braunfels, TX 78130. | City Hall, 550 Landa Street, New Braunfels, TX 78130. | Aug. 5, 2019 | 485493
Collin (FEMA Docket No.: B-1939). | Unincorporated areas of Collin County (18-06-1942P). | The Honorable Chris Hill, Collin County Judge, 2300 Bloomdale Road, Suite 4192, McKinney, TX 75071. | Collin County Engineering Department, 4690 Community Avenue, Suite 200, McKinney, TX 75071. | Aug. 5, 2019 | 480130
Denton (FEMA Docket No.: B-1931). | City of Denton (18-06-4048P). | The Honorable Chris A. Watts, Mayor, City of Denton, 215 East McKinney Street, Suite 100, Denton, TX 76201. | Engineering Department, 901-A Texas Street, Denton, TX 76209. | Aug. 12, 2019 | 480194
Denton. | Unincorporated areas of Denton County (18-06-1942P). | The Honorable Andy Eads, Denton County Judge, 110 West Hickory Street, 2nd Floor, Denton, TX 76201. | Denton County Public Works, Engineering Department, 1505 East McKinney Street, Suite 175, Denton, TX 76209. | Aug. 5, 2019 | 480774
Denton (FEMA Docket No.: B-1924). | Unincorporated areas of Denton County (18-06-3265P). | The Honorable Andy Eads, Denton County Judge, 110 West Hickory Street, 2nd Floor, Denton, TX 76201. | Denton County Public Works, Engineering Department, 1505 East McKinney Street, Suite 175, Denton, TX 76209. | Jul. 29, 2019 | 480774
Fort Bend (FEMA Docket No.: B-1928). | Unincorporated areas of Fort Bend County (19-06-0254P). | The Honorable K. P. George, Fort Bend County Judge, 401 Jackson Street, Richmond, TX 77469. | Fort Bend County Engineering Department, 301 Jackson Street, Richmond, TX 77469. | Aug. 8, 2019 | 480228
Hays (FEMA Docket No.: B-1935). | City of Kyle (18-06-3039P). | Mr. Scott Sellers, Manager, City of Kyle, 100 West Center Street, Kyle, TX 78640. | City Hall, 100 West Center Street, Kyle, TX 78640. | Jul. 25, 2019 | 481108
Tarrant (FEMA Docket No.: B-1931). | City of Arlington (18-06-3453P). | The Honorable Jeff Williams, Mayor, City of Arlington, P.O. Box 90231, Arlington, TX 76004. | City Hall, 101 West Abram Street, Arlington, TX 76010. | Aug. 5, 2019 | 485454
Tarrant (FEMA Docket No.: B-1931). | Unincorporated areas of Tarrant County (19-06-0403P). | The Honorable B. Glen Whitley, Tarrant County Judge, 100 East Weatherford Street, Fort Worth, TX 76196. | Tarrant County Administration Building, 100 East Weatherford Street, Fort Worth, TX 76196. | Jul. 26, 2019 | 480582
Williamson (FEMA Docket No.: B-1931). | City of Cedar Park (18-06-3176P). | The Honorable Corbin Van Arsdale, Mayor, City of Cedar Park, 450 Cypress Creek Road, Building 1, Cedar Park, TX 78613. | Engineering Department, 450 Cypress Creek Road, Building 1, Cedar Park, TX 78613. | Jul. 30, 2019 | 481282
Wyoming: Laramie (FEMA Docket No.: B-1924). | Unincorporated areas of Laramie County (18-08-1199P). | The Honorable Linda Heath, Chair, Laramie County Board of Commissioners, 310 West 19th Street, Suite 300, Cheyenne, WY 82001. | Laramie County Planning and Development Department, 3966 Archer Parkway, Cheyenne, WY 82009. | Jul. 29, 2019 | 560029

[FR Doc. 2019-18551 Filed 8-27-19; 8:45 am]

BILLING CODE 9110-12-P